DEPARTMENT OF TRANSPORTATION

Federal Aviation Administration

14 CFR Part 73

[Docket No. FAA-2010-0471; Airspace Docket No. 10-AWP-7]

RIN 2120-AA66

Amendment of Restricted Area R-2502A; Fort Irwin, CA

AGENCY: Federal Aviation Administration (FAA), DOT.

ACTION: Final rule.

SUMMARY: This action changes the controlling agency of Restricted Area R-2502A, Fort Irwin, CA, from “FAA, Hi-Desert TRACON, Edwards, CA” to “FAA, Los Angeles ARTCC.” The FAA is taking this action in response to an administrative change of responsibility for the restricted area. This action does not change any boundaries, times of designation, or activities conducted in the restricted airspace area.

DATES: Effective date 0901 UTC, July 29, 2010.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

The Rule

This action amends Title 14 Code of Federal Regulations (14 CFR) part 73 by changing the controlling agency for R-2502A from “FAA, Hi-Desert TRACON, Edwards, CA” to “FAA, Los Angeles ARTCC.” This is an administrative change and does not affect the boundaries, designated altitudes, or activities conducted within the restricted area, therefore, notice and public procedures under 5 U.S.C. 553(b) is unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends a restricted area in California.

Environmental Review

The FAA has determined that this action qualifies for categorical exclusion under the National Environmental Policy Act in accordance with 311d, FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2502A Fort Irwin, CA [Amended]

Under Controlling agency, remove the words “FAA, Hi-Desert TRACON, Edwards, CA” and insert the words “FAA, Los Angeles ARTCC.”

Issued in Washington, DC, May 18, 2010.
Edith V. Parish,
Manager, Airspace and Rules Group.

[FR Doc. 2010-12415 Filed 5-21-10; 8:45 am]

BILLING CODE 4910-13-P